FEDERAL COMMUNICATIONS COMMISSION

47 CFR Part 73

[DA 02-690; MM Docket No. 97-178; RM-8329, RM-8739, RM-10099]

Radio Broadcasting Services; West Hurley, Rosendale and Rhinebeck, NY, and North Canaan and Sharon, CT

AGENCY: Federal Communications Commission.

ACTION: Final rule, petition for reconsideration, denied.

SUMMARY: This document denies a Petition for Reconsideration filed by Sacred Heart University, Inc. directed to the Report and Order in this proceeding. See 66 FR 39454, published July 31, 2001. Specifically, that action allotted Channel 273A* to Rhinebeck, New York, and reserved this channel for noncommercial educational use. With this action, the proceeding is terminated.

FOR FURTHER INFORMATION CONTACT: Robert Hayne, Mass Media Bureau, (202) 418-2177.

SUPPLEMENTARY INFORMATION: This is a synopsis of the Commission's Memorandum Opinion and Order in MM Docket No. 97-178, adopted March 6, 2002, and released March 8,2002. The full text of this decision is available for inspection and copying during normal business hours in the FCC's Reference Information Center at Portals 11, CY-A257, 445 12th Street, SW, Washington, DC. The complete text of this decision may also be purchased from the Commission's duplicating contractor, Qualex International, Portals ll, 445 12th Street, SW, Room CY-B402, Washington, DC 20554, telephone 202-863-2893, facsimile 202-863-2898, or via e-mail qualexint@aol.com.

Federal Communications Commission.
John A. Karousos,
Chief, Allocations Branch, Policy and Rules Division, Mass Media Bureau.

[FR Doc. 02-8396 Filed 4-5-02; 8:45 am]

BILLING CODE 6712-01-P